DEPARTMENT OF COMMERCE

National Oceanic and Atmospheric Administration

Sanctuary System Business Advisory Council; Public Meeting

AGENCY: Office of National Marine Sanctuaries (ONMS), National Ocean Service (NOS), National Oceanic and Atmospheric Administration (NOAA), Department of Commerce (DOC).

ACTION: Notice of open public meeting.

SUMMARY: Notice is hereby given of a meeting of the Office of National Marine Sanctuaries' (ONMS) Sanctuary System Business Advisory Council. The meeting is open to the public. ONMS will provide an opportunity for oral and written comments.

DATES: The meeting will be held on Thursday, July 28, 2022, from 1 p.m. to 2 p.m. ET. The public will be provided with an opportunity to comment around 1:40 p.m. ET. The meeting times and agenda topics are subject to change. Up-to-date information about the meeting time and agenda topics can be found at http://sanctuaries.noaa.gov/management/bac/meetings.html.

ADDRESSES: The meeting will be held virtually using Google Meet. To participate, please use the weblink provided below. If you are unable to participate online, you can also connect to the public meeting using the phone number provided below.

Weblink: meet.google.com/ysy-oxpf-grw.

Phone: +1 575-448-410 PIN: 164 756 136 #.

Additional information, including instructions on how to join the meeting, can be found at http://sanctuaries.noaa.gov/management/bac/meetings.html. To provide an oral comment during the virtual public meeting, please sign up prior to or during the meeting by contacting Katie Denman by phone (240-533-0702) or email (katie.denman@noaa.gov). To provide a written comment, please send the comment to Katie Denman prior to or during the virtual meeting on July 28, 2022, via email (katie.denman@noaa.gov). Please note, the meeting will not be recorded. However, public comments, including any associated names, will be captured in the minutes of the meeting and will be maintained by ONMS as part of its administrative record, and may be subject to release pursuant to the Freedom of Information Act. By signing up to provide a public comment, you agree that these communications, including your name and comment, will be maintained as described here.

FOR FURTHER INFORMATION CONTACT: Katie Denman, Office of National Marine Sanctuaries, 1305 East West Highway, Silver Spring, Maryland 20910 (Phone: 240-533-0702; Email: katie.denman@noaa.gov).

SUPPLEMENTARY INFORMATION: ONMS serves as the trustee for a network of underwater parks encompassing more than 620,000 square miles (16,000 square kilometers) of marine and Great Lakes waters from Washington State to the Florida Keys, and from Lake Huron to American Samoa. The network includes a system of 15 national marine sanctuaries and Papahānaumokuākea and Rose Atoll marine national monuments. National marine sanctuaries protect our Nation's most vital coastal and marine natural and cultural resources, and through active research, management, and public engagement, sustain healthy environments that are the foundation for thriving communities and stable economies.

One of the many ways ONMS ensures public participation in the designation and management of national marine sanctuaries is through the formation of advisory councils. The Sanctuary System Business Advisory Council (council) has been formed to provide advice and recommendations to the Director of ONMS regarding the relationship between ONMS and the business community. Additional information on the council can be found at https://sanctuaries.noaa.gov/management/bac/.

Agenda topics: The meeting will include a discussion and vote on a proposed amendment to the current council charter and member updates. For a complete agenda, including times and topics, please visit http://sanctuaries.noaa.gov/management/bac/meetings.html.

Authority: 16 U.S.C. 1431, et seq.

John Armor,
Director, Office of National Marine Sanctuaries, National Ocean Service, National Oceanic and Atmospheric Administration.

[FR Doc. 2022-13375 Filed 6-22-22; 8:45 am]

BILLING CODE 3510-NK-P